DEPARTMENT OF HEALTH AND HUMAN SERVICES

National Institutes of Health

Office of the Director, National Institutes of Health; Notice of Meeting

Pursuant to section 10(a) of the Federal Advisory Committee Act, as amended (5 U.S.C. App.), notice is hereby given of a meeting of the Office of AIDS Research Advisory Council.

The meeting will be open to the public, with attendance limited to space available. Individuals who plan to attend and need special assistance, such as sign language interpretation or other reasonable accommodations, should notify the Contact Person listed below in advance of the meeting.

Name of Committee: Office of AIDS Research Advisory Council.

Date: July 12, 2018.

Time: 11:00 a.m. to 12:30 p.m.

Agenda: Report to the OAR Director; Overview of key upcoming OAR activities; Updates of the HHS HIV/AIDS Treatment and Prevention Guidelines.

Place: National Institutes of Health, 5601 Fishers Lane, Bethesda, MD 20892 (Virtual Meeting).

Contact Person: Paul A. Sato, Medical Officer, Office of AIDS Research, Office of the Director, NIH, 5601 Fishers Lane, Room 2E62 Rockville, MD 20852, 240-480-2330, paul.sato@nih.gov.

Any interested participants are encouraged to join this meeting at the weblink provided, at least 30 minutes prior to the scheduled start time. Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: June 19, 2018.
Natasha M. Copeland,
Program Analyst, Office of Federal Advisory Committee Policy.

[FR Doc. 2018-13419 Filed 6-21-18; 8:45 am]

BILLING CODE 4140-01-P